DEPARTMENT OF LABOR

Employment and Training Administration

[TA-W-53,244]

Vesuvius USA, Champaign, IL; Notice of Termination of Investigation

Pursuant to section 221 of the Trade Act of 1974, as amended, an investigation was initiated on October 15, 2003, in response to a worker petition filed by a company official on behalf of workers at Vesuvius USA, Champaign, Illinois.

The petitioner has requested that the petition be withdrawn. Consequently, the investigation has been terminated.

Signed at Washington, DC, this 29th day of October, 2003.
Linda G. Poole,
Certifying Officer, Division of Trade Adjustment Assistance.

[FR Doc. 03-29287 Filed 11-21-03; 8:45 am]

BILLING CODE 4510-30-P